FEDERAL RESERVE SYSTEM

Formations of, Acquisitions by, and Mergers of Bank Holding Companies; Correction

This notice corrects a notice (FR Doc. 2024-11345) published on page 44980 in the third column of the issue for Wednesday, May 22, 2024.

Under A. Federal Reserve Bank of New York, entry 1 is corrected to read as follows:

1. Hanover Bancorp, Inc., Mineola, New York (a Maryland corporation); to become a bank holding company by acquiring Hanover Bancorp, Inc., Mineola, New York (a New York corporation), and thereby indirectly acquiring Hanover Community Bank, Garden City Park, New York.

Comments on this application must be received by June 27, 2024.

Board of Governors of the Federal Reserve System.
Michele Taylor Fennell,
Deputy Associate Secretary of the Board.

[FR Doc. 2024-11648 Filed 5-24-24; 8:45 am]

BILLING CODE P